DEPARTMENT OF HOMELAND SECURITY

Coast Guard

[Docket No. USCG-2010-0387]

Navigation Safety Advisory Council; Meeting

AGENCY: Coast Guard, DHS.

ACTION: Notice of meeting.

SUMMARY: The Navigation Safety Advisory Council (NAVSAC) will meet in Washington, DC, to discuss various issues relating to the safety of navigation. The meeting will be open to the public.

DATES: NAVSAC will meet on Tuesday, June 22, 2010, from 8 a.m. to 5 p.m. and Wednesday, June 23, 2010, from 8 a.m. to 5 p.m. This meeting may close early if all business is finished. Written material and requests to make oral presentations should reach the Coast Guard on or before June 4, 2010. Requests to have a copy of your material distributed to each member of the committee should reach the Coast Guard on or before June 4, 2010.

ADDRESSES: NAVSAC will meet at the Courtyard by Marriott Washington Capitol Hill/Navy Yard Hotel, Admiral I and II Conference Rooms, 140 L Street SE., Washington, DC 20003. Send written material and requests to make oral presentations to Mr. Mike Sollosi, Designated Federal Officer (DFO) of NAVSAC, Commandant (CG-5413), U.S. Coast Guard Headquarters, 2100 Second Street SW., Washington, DC 20593-7581. This notice may be viewed in our online docket, USCG-2010-0387, at http://www.regulations.gov.

FOR FURTHER INFORMATION CONTACT: Mr. Mike Sollosi, the Designated Federal Officer (DFO) of NAVSAC, telephone 202-372-1545 or e-mail at mike.m.sollosi@uscg.mil.

SUPPLEMENTARY INFORMATION: Notice of the meeting is given under the Federal Advisory Committee Act, 5 U.S.C. App. (Pub. L. 92-493).

Agenda of Meeting

The agenda for the June 22-23, 2010, NAVSAC meeting is as follows:

(1) Recreational boat lighting modification.

(2) Offshore Renewable Energy Installations (OREI) NVIC 02-07 review.

(3) Designation of “narrow channels” for Inland Navigation Rule 9 application.

(4) Unmanned Autonomous Vessels COLREGS applicability.

Procedural

This meeting is open to the public. Please note that the meeting may close early if all business is finished. At the Chair's discretion, members of the public may make oral presentations during the meeting. If you would like to make an oral presentation at the meeting, please notify the DFO no later than June 4, 2010. Written material for distribution at the meeting should reach the Coast Guard no later than June 4, 2010. If you would like a copy of your material distributed to each member of the committee in advance of the meeting, please submit 25 copies to the DFO no later than June 4, 2010.

Information on Services for Individuals With Disabilities

For information on facilities or services for individuals with disabilities or to request special assistance at the meeting, contact the DFO as soon as possible.

Dated: May 7, 2010.
Wayne A. Muilenburg,
Captain, U.S. Coast Guard, Office of Waterways Management.

[FR Doc. 2010-11517 Filed 5-13-10; 8:45 am]

BILLING CODE 9110-04-P